DEPARTMENT OF HOMELAND SECURITY

Federal Emergency Management Agency

[Docket ID: FEMA-2015-0015; OMB No. 1660-0073]

Agency Information Collection Activities: Submission for OMB Review; Comment Request; National Urban Search and Rescue Response System

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before November 19, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This information collection previously published in the Federal Register on June 8, 2015, at 80 FR 32391 with a 60 day public comment period. No comments were received. The purpose of this notice is to notify the public that FEMA will submit the information collection abstracted below to the Office of Management and Budget for review and clearance.

Collection of Information

Title: National Urban Search and Rescue Response System.

Type of information collection: Revision of a currently approved information collection.

OMB Number: 1660-0073.

Form Titles and Numbers: FEMA Form 089-0-10, Urban Search Rescue Response System Narrative Statement Workbook; FEMA Form 089-0-11, Urban Search Rescue Response System Semi-Annual Performance Report; FEMA Form 089-0-12, Urban Search Rescue Response System Amendment Form; FEMA Form 089-0-14, Urban Search Rescue Response System Task Force Self-Evaluation Scoresheet; FEMA Form 089-0-15, Urban Search Rescue Response System Task Force Deployment Data; FEMA Form 089-0-26, Vehicle Support Unit Purchase/Replacement/Disposal Justification.

Abstract: The information collection activity is the collection of financial, program and administrative information for US&R Sponsoring Agencies relating to readiness and response Cooperative Agreement awards.

Affected Public: State, Local or Tribal Government.

Estimated Number of Respondents: 28.

Estimated Total Annual Burden Hours: 392 hours.

Estimated Cost: The estimated annual cost to respondents for the hour burden is $16,832.48. There are no annual costs to respondents' operations and maintenance costs for technical services. There are no annual start-up or capital costs. The cost to the Federal Government is $79,665.90.

Dated: October 14, 2015.
Richard W. Mattison,
Records Management Program Chief, Mission Support, Federal Emergency Management Agency, Department of Homeland Security.

[FR Doc. 2015-26618 Filed 10-19-15; 8:45 am]

BILLING CODE 9111-54-P